NATIONAL SCIENCE FOUNDATION

Sunshine Act Meetings

The National Science Board's Committee on Strategy's Subcommittee on Technology, Innovation and Partnerships hereby gives notice of the scheduling of a teleconference for the transaction of National Science Board business pursuant to the NSF Act and the Government in the Sunshine Act, as follows:

TIME AND DATE: Tuesday, August 17, 2021, from 1:00-2:00 p.m. EDT.

PLACE: This meeting will be held by teleconference through the National Science Foundation, 2415 Eisenhower Avenue, Alexandria, VA 22314.

STATUS: Closed.

MATTERS TO BE CONSIDERED: The agenda is: Subcommittee chair's opening remarks; Discussion of planning and strategy for NSF's Technology, Innovation, and Partnerships directorate, including its goals, budget scenarios, plans for staffing the directorate, and potential funding opportunities.

CONTACT PERSON FOR MORE INFORMATION: Point of contact for this meeting is: Chris Blair, cblair@nsf.gov, 703/292-7000. Meeting information and updates may be found at http://www.nsf.gov/nsb/meetings/notices.jsp#sunshine. Please refer to the National Science Board website www.nsf.gov/nsb for general information.

Chris Blair,
Executive Assistant to the National Science Board Office.

[FR Doc. 2021-17550 Filed 8-12-21; 4:15 pm]

BILLING CODE 7555-01-P